DEPARTMENT OF VETERANS AFFAIRS

Advisory Committee on Homeless Veterans, Notice of Meeting Cancellation

The Department of Veterans Affairs (VA) gives notice under the Federal Advisory Committee Act, 5 U.S.C. Ch. 10, that the Advisory Committee on Homeless Veterans, previously scheduled to be held on August 13, 2025, has been cancelled.

For more information, please Anthony Love, Designated Federal Officer, Veterans Health Administration Homeless Programs Office (11HPO) at 202-461-1902 or via email at achv@va.gov.

Dated: July 17, 2025.
Jelessa M. Burney,
Federal Advisory Committee Management Officer.

[FR Doc. 2025-13604 Filed 7-18-25; 8:45 am]

BILLING CODE 8320-01-P